DEPARTMENT OF COMMERCE

Foreign-Trade Zones Board

[Order No. 1411]

Grant of Authority for Subzone Status, Millipore Corporation (Polyvinylidene Fluoride Filtering Devices), Jaffrey, New Hampshire

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Pease Development Authority, grantee of Foreign-Trade Zone 81 (Portsmouth, New Hampshire), has made application for authority to establish special-purpose subzone status at the polyvinylidene fluoride (PVDF) filtering device manufacturing plant of Millipore Corporation, located in Jaffrey, New Hampshire (Docket 55-2004, filed 11-30-2004);

Whereas, notice inviting public comment was given in the Federal Register (69 FR 70996, 12-8-2004); and,

Whereas, the Board adopts the findings and recommendations of the examiner's report, and finds that the requirements of the FTZ Act and Board's regulations are satisfied, and that approval of the application is in the public interest.

Now, therefore, the Board hereby grants authority for subzone status for activity related to polyvinylidene fluoride (PVDF) filtering device manufacturing at the facilities of Millipore Corporation, located in Jaffrey, New Hampshire (Subzone 81D), as described in the application and Federal Register notice, and subject to the FTZ Act and the Board's regulations, including Section 400.28.

Signed at Washington, DC, this 9th day of September 2005.

Joseph A. Spetrini,
Acting Assistant Secretary of Commerce for Import Administration, Alternate Chairman, Foreign-Trade Zones Board.
Attest:
Dennis Puccinelli,
Executive Secretary.

[FR Doc. 05-18717 Filed 9-19-05; 8:45 am]

BILLING CODE 3510-DS-S